POSTAL SERVICE

39 CFR Part 241

Post Office Organization and Administration: Discontinuance of USPS-Operated Retail Facilities

AGENCY: Postal Service™.

ACTION: Final rule.

SUMMARY: The United States Postal Service® has revised its regulations concerning the Postal Service-Operated Retail Facilities Discontinuance Guide to conform to organizational changes.

DATES: Effective May 16, 2022.

FOR FURTHER INFORMATION CONTACT: Sal Faraglia, 202-494-3329, Post Office Operations and Processing Logistics and Integration.

SUPPLEMENTARY INFORMATION: The revision makes minor changes to § 241.3 to update the text with the correct job titles following organizational changes.

List of Subjects in 39 CFR Part 241

Organization and functions (Government agencies).

Accordingly, 39 CFR part 241 is amended as follows:

PART 241—ESTABLISHMENT CLASSIFICATION, AND DISCONTINUANCE

1. The authority citation for part 241 continues to read as follows:

Authority: 39 U.S.C. 101, 401, 403, 404, 410, 1001.

2. Amend § 241.3 by revising paragraphs (b)(2) and (d)(3) introductory text to read as follows:

§ 241.3 Discontinuance of USPS-operated retail facilities.

* * * * *

(b) * * *

(2) ZIP Code assignment. The ZIP Code for each address formerly served from the discontinued USPS-operated retail facility should be kept, wherever practical. In some cases, the ZIP Code originally assigned to the discontinued USPS-operated retail facility may be changed if the responsible District Manager receives approval from his or her Vice President of Area Delivery and Retail Operations before any proposal to discontinue the USPS-operated retail facility is posted.

* * * * *

(d) * * *

(3) Other steps. In addition to providing notice and inviting comment, the District Manager must take any other steps necessary to ensure that the persons served by affected USPS-operated retail facilities understand the nature and implications of the proposed action. A community meeting must be held to provide outreach and gain public input after the proposal is posted, unless otherwise instructed by the responsible Headquarters Vice President or the applicable Vice President of Area Delivery and Retail Operations. Authorization to forgo a community meeting should issue only where exceptional circumstances make a community meeting infeasible, such as where the community no longer exists because of a natural disaster or because residents have moved elsewhere.

* * * * *

Joshua J. Hofer,
Attorney, Ethics & Legal Compliance.

[FR Doc. 2022-10283 Filed 5-13-22; 8:45 am]

BILLING CODE P